DEPARTMENT OF ENERGY

Federal Energy Regulatory Commission

[Docket Nos. RM98-10-000 et al.]

Regulation of Short-Term Natural Gas Transportation Services, et al.

July 21, 2000.

In the matter of: RM98-12-000, RP00-393-000, RP00-387-000, RP00-406-000, RP00-405-000, RP00-390-000, RP00-407-000, RP00-411-000, RP00-394-000, RP00-397-000, RP00-396-000, RP00-401-000, RP00-400-000, RP00-391-000, RP00-410-000, RP00-409-000, RP00-399-000, RP00-392-000, RP00-403-000, RP00-404-000, RP00-412-000, RP00-398-000, RP00-408-000, RP00-402-000, RP00-395-000, RP00-413-000, RP00-414-000, and RM98-10-000; Regulation of Interstate Natural Gas Transportation Services, Eastern Shore Natural Gas Company, Florida Gas Transmission Company, Gas Transport, Inc., Gulf States Transmission Corporation, Granite State Gas Transmission, Inc., High Island Offshore System, L.L.C., Iroquois Gas Transmission System, L.P., K O Transmission Company, Questar Pipeline Company, Michigan Gas Storage Company, Midcoast Interstate Transmission, Inc., Mid Louisiana Gas Company, Mississippi Canyon Gas Pipeline, LLC, Mississippi River Transmission Corporation, Natural Gas Pipeline Company of America, National Fuel Gas Supply Corporation, Nautilus Pipeline Company, L.L.C., Northern Border Pipeline Company, Northern Natural Gas Company, Northwest Pipeline Corporation, Overthrust Pipeline Company, Ozark Gas Transmission, L.L.C., Paiute Pipeline Company, Panhandle Eastern Pipe Line Company, Pine Needle LNG Company, LLC, PG&E Gas Transmission, Northwest Corporation; Notice of Compliance Filing

Take notice that on July 17, 2000, the above-referenced pipelines tendered for filing their pro forma tariff sheets respectively, in compliance with Order Nos. 637 and 637-A.

On February 9 and May 19, 2000, the Commission issued Order Nos. 637 and 637-A, respectively, which prescribed new regulations, implemented new policies and revised certain existing regulations respecting natural gas transportation in interstate commerce. The Commission directed pipelines to file pro forma tariff sheets to comply with the new regulatory requirements regarding scheduling procedures, capacity segmentation, imbalance management services and penalty credits, or in the alternative, to explain why no changes to existing tariff provisions are necessary.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before August 15, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-18880 Filed 7-25-00; 8:45 am]

BILLING CODE 6717-01-M